FEDERAL RETIREMENT THRIFT INVESTMENT BOARD

Notice of Board Meeting

DATES: April 27, 2021 at 10:00 a.m.

ADDRESSES: Telephonic. Dial-in (listen only) information: Number: 1-415-527-5035, Code: 199 778 0953; or via web: https://tspmeet.webex.com/tspmeet/onstage/g.php?MTID=e970bcb3380007675a9722e504d95e5b9.

FOR FURTHER INFORMATION CONTACT: Kimberly Weaver, Director, Office of External Affairs, (202) 942-1640.

SUPPLEMENTARY INFORMATION:

Board Meeting Agenda

Open Session

1. Approval of the March 23, 2021 Board Meeting Minutes

2. Monthly Reports

(a) Participant Activity Report

(b) Legislative Report

3. Quarterly Reports

(c) Investment Policy

(d) Budget Review

(e) Audit Status

4. Annual Financial Audit—Clifton Larsen Allen

5. Department of Labor Presentation

6. Multi-Asset Manager Update

7. Converge Update (formerly known as RKSA)

Closed Session

8. Information covered under 5 U.S.C. 552b(c)(9)(B).

Authority: 5 U.S.C. 552b(e)(1).

Dated: April 15, 2021.
Dharmesh Vashee,
Acting General Counsel, Federal Retirement Thrift Investment Board.

[FR Doc. 2021-08041 Filed 4-19-21; 8:45 am]

BILLING CODE P